DEPARTMENT OF JUSTICE

Notice of Lodging Proposed Consent Decree

In accordance with Departmental Policy, 28 CFR 50.7, notice is hereby given that a proposed Consent Decree in United States v. FKT Resort Management LLC, et al., No. 2:16-cv-00496-JAW, was lodged with the United States District Court for the District of Maine on September 28, 2016.

The proposed Consent Decree concerns a complaint filed by the United States against Defendants FKT Resort Management LLC, FKT Bayley Family Limited Partnership, Fred W. Bayley, Kathleen M. Bayley, Thomas R. Bayley, Bayley Hill Deer & Trout Farm, Inc., and Bayley's Campground, Inc., pursuant to 33 U.S.C. 1311, 1319, 1344, to obtain injunctive relief from and impose civil penalties against the Defendants for violating the Clean Water Act by discharging pollutants without a permit into waters of the United States. The proposed Consent Decree resolves these allegations against Defendants FKT Resort Management LLC, FKT Bayley Family Limited Partnership, Fred W. Bayley, Kathleen M. Bayley, Thomas R. Bayley, Bayley Hill Deer & Trout Farm, Inc., and Bayley's Campground, Inc. by requiring those Defendants to restore the impacted areas, perform mitigation, and to pay a civil penalty.

The Department of Justice will accept written comments relating to the proposed Consent Decree for thirty (30) days from the date of publication of this Notice. Please address comments to Amy J. Dona, Trial Attorney for the United States Department of Justice, Environment and Natural Resources Division, Environmental Defense Section, Post Office Box 7611, Washington, DC 20044, and refer to United States v. FKT Resort Management LLC, et al., DJ #90-5-1-1-19988.

The proposed Consent Decree may be examined at the Clerk's Office, United States District Court for the District of Maine, 156 Federal Street, Portland, ME 04101. In addition, the proposed Consent Decree may be examined electronically at http://www.justice.gov/enrd/consent-decrees.

Cherie L. Rogers,
Assistant Section Chief, Environmental Defense Section, Environment and Natural Resources Division.

[FR Doc. 2016-24021 Filed 10-4-16; 8:45 am]

BILLING CODE 4410-15-P